DEPARTMENT OF COMMERCE

Foreign-Trade Zones Board

[Order No. 2046]

Re-Establishment and Expansion of Site—Foreign-Trade Zone 276, Kern County, California

Pursuant to its authority under the Foreign-Trade Zones Act of June 18, 1934, as amended (19 U.S.C. 81a-81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Foreign-Trade Zones Board to grant to qualified corporations the privilege of establishing foreign-trade zones in or adjacent to U.S. Customs and Border Protection ports of entry;

Whereas, Kern County, California, grantee of Foreign-Trade Zone 276, submitted an application to the Board (FTZ Docket B-75-2017, docketed November 21, 2017) for authority to re-establish FTZ 276 adjacent to the Los Angeles/Long Beach U.S. Customs and Border Protection (CBP) port of entry, expand Site 2 and remove Sites 1 and 3;

Whereas, notice inviting public comment was given in the Federal Register (82 FR 56213-56214, November 28, 2017) and the application has been processed pursuant to the FTZ Act and the Board's regulations; and,

Whereas, the Board adopts the findings and recommendations of the examiner's report, and finds that the requirements of the FTZ Act and the Board's regulations are satisfied;

Now, therefore, the Board hereby orders:

The application to re-establish FTZ 276 adjacent to the Los Angeles/Long Beach CBP port of entry is approved, subject to the FTZ Act and the Board's regulations, including Section 400.13 and to the Board's standard 2,000-acre activation limit for the zone.

Dated: January 31, 2018.
Christian B. Marsh,
Deputy Assistant Secretary for Enforcement & Compliance, performing the non-exclusive functions and duties of the Assistant Secretary for Enforcement and Compliance.

[FR Doc. 2018-02317 Filed 2-5-18; 8:45 am]

BILLING CODE 3510-DS-P